DEPARTMENT OF THE INTERIOR

Bureau of Indian Affairs

Final Environmental Impact Statement for the Proposed KRoad Moapa Solar Generation Facility, Clark County, NV

AGENCY: Bureau of Indian Affairs, Interior.

ACTION: Notice of Availability.

SUMMARY: This notice advises the public that the Bureau of Indian Affairs (BIA) as the lead Federal agency, with the Bureau of Land Management (BLM), Environmental Protection Agency (EPA), United States Army Corps of Engineers (USACE) and the Moapa Band of Paiute Indians (Tribe) as Cooperating Agencies, has prepared a Final Environmental Impact Statement (FEIS) for the proposed KRoad Moapa Solar Generation Facility on the Moapa River Indian Reservation (Reservation) in Clark County, Nevada. This notice also announces the FEIS is now available on a public Web site and in hard copy at the addresses below.

DATES: The Record of Decision (ROD) on the proposed action will be issued no sooner than 30 days after the release of the FEIS.

ADDRESSES: You may request a hard copy by writing or contacting Ms. Amy Heuslein, Regional Environmental Protection Officer, BIA Western Regional Office Branch of Environmental Quality Services, 2600 North Central Avenue, 4th Floor Mail Room, Phoenix, Arizona 85004-3008; telephone (602) 379-6750; fax (602) 379-3833; email: amy.heuslein@bia.gov. The DEIS may be found on the following Web site: http://projects2.pirnie.com/MoapaSolar/. Hard copies of the document will be available at the BIA Western Regional Office, 2600 North Central Avenue, 12th Floor, Suite 210, Phoenix, Arizona; the BIA Southern Paiute Agency, 180 North 200 East, Suite 111, St. George, Utah; and BLM Southern Nevada District Office, 4701 N. Torrey Pines Drive, Las Vegas, Nevada 89130.

FOR FURTHER INFORMATION CONTACT: Amy Heuslein or Garry Cantley, BIA Western Regional Office, Branch of Environmental Quality Services, 2600 North Central Avenue, Phoenix, Arizona 85004-3008, telephone number (602) 379-6750.

SUPPLEMENTARY INFORMATION: KRoad Moapa Solar LLC (KRoad) is proposing to construct a 350 megawatt (MW) solar generation facility and associated infrastructure on the Tribe's reservation; develop a 12 kV transmission line and water line; and obtain two rights-of-way (ROWs) grants for an up to 500 kV transmission line and access road on BLM land and within a BLM-administered utility corridor. The Proposed Project would provide land lease income, sustainable renewable resources, new jobs, and other benefits for the Tribe by using solar resources from reservation lands where exposure to levels of high solar radiation exists. The Proposed Project would also assist utilities in meeting their renewable energy goals, by providing electricity generated from solar resources from tribal lands that may be efficiently connected to existing transmission lines in a manner that minimizes adverse site impacts.

The BIA's purpose and need for the proposed Federal action is to respond to the proposed solar energy ground lease and other agreements entered into by the Tribe with KRoad, and the approval of ROWs for KRoad to construct, operate, and maintain an up to 350 MW solar photovoltaic electricity generating facility on the reservation. The BLM's purpose and need for the proposed Federal action also would be to respond to KRoad's application for an up to 500 kV transmission line and access road ROWs within an existing utility corridor, of which 5 miles are located on the reservation and 0.5 miles is located on BLM land just south of the reservation boundary, pursuant to the Federal Land Policy and Management Act and BLM's ROWs regulations. The BIA and BLM will adopt the EIS to make decisions on the land lease and ROW application under their jurisdiction while the EPA and USACE may adopt the document to make decisions under their authorities. The Tribe may also use the EIS to make decisions under their Tribal Environmental Policy Ordinance and the U.S. Fish and Wildlife Service may use the EIS to support its decision under the Endangered Species Act.

Authority: This notice is published pursuant to 40 CFR 1506.10(a) of the Council of Environmental Quality Regulations (40 CFR part 1500 et seq.) and 43 CFR 46.305 of the Department of Interior Regulations (43 CFR part 46), the procedural requirements of the National Environmental Policy Act of 1969, as amended (42 U.S.C. 4371 et seq.), and is in accordance with the exercise of authority delegated to the Assistant Secretary—Indian Affairs by 209 DM 8.

Dated: March 9, 2012.
Larry Echo Hawk,
Assistant Secretary—Indian Affairs.

[FR Doc. 2012-6203 Filed 3-15-12; 8:45 am]

BILLING CODE 4310-W7-P